ENVIRONMENTAL PROTECTION AGENCY

[FRL-8457-9]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1604.08; NSPS for Secondary Brass/Bronze Production, Primary Copper/Zinc/Lead Smelters, Primary Aluminum Reduction Plants and Ferroalloy Production Facilities (Renewal); in 40 CFR part 60, subparts M, P, Q, R, S, Z; was approved 07/23/2007; OMB number 2060-0110; expires 07/31/2010.

EPA ICR No. 2080.03; Motor Vehicle and Engine Compliance Program Fees; in 40 CFR 85.2405-85.2408; was approved 07/26/2007; OMB Number 2060-0545; expires 07/31/2010.

EPA ICR No. 2079.03; NESHAP for Metal Can Manufacturing Surface Coating (Renewal); in 40 CFR part 63, subpart KKKK; was approved 07/30/2007; OMB Number 2060-0541; expires 07/31/2010.

EPA ICR No. 1058.09; NSPS for Incinerators (Renewal); in 40 CFR part 60, subpart E; was approved 07/30/2007; OMB Number 2060-0040; expires 07/31/2010.

EPA ICR No. 0657.09; New Source Performance Standards for Graphic Arts Industry (Renewal); in 40 CFR part 60, subpart QQ; was approved 07/30/2007; OMB Number 2060-0105; expires 07/31/2010.

EPA ICR No. 1717.05; NESHAP for Off-Site Waste and Recovery Operations (Renewal); in 40 CFR part 63, subpart DD; was approved 07/30/2007; OMB Number 2060-0313; expires 07/31/2010.

EPA ICR No. 1907.04; Recordkeeping and Reporting Requirements Regarding the Sulfur Content of Motor Vehicle Gasoline under the Tier 2 Rule (Renewal); in 40 CFR part 80, subpart H; was approved 07/30/2007; OMB Number 2060-0437; expires 07/31/2010.

EPA ICR No. 0282.14; Emission Defect Information Reports and Voluntary Emission Recall Reports (Renewal); was approved 07/30/2007; OMB Number 2060-0048; expires 07/30/2010.

EPA ICR No. 1663.05; Compliance Assurance Monitoring Program (Renewal); in 40 CFR part 64; was approved 07/31/2007; OMB Number 2060-0376; expires 07/31/2010.

EPA ICR No. 0309.12; Registration of Fuels and Fuel Additives; Requirements for Manufacturers (Renewal); was approved 07/23/2007; OMB Number 2060-0150; expires 07/31/2010.

EPA ICR No. 0010.11; Importation Requirements for Importation of Nonconforming Vehicles (Renewal); was approved 07/23/2007; OMB Number 2060-0095; expires 07/31/2010.

EPA ICR No. 1781.04; NESHAP for Pharmaceutical Production (Renewal); in 40 CFR part 63, subpart GGG; was approved 07/19/2007; OMB Number 2060-0358; expires 07/31/2010.

EPA ICR No. 1774.04; Mobile Air Conditioner Retrofitting Program (Renewal); was approved 07/19/2007; OMB Number 2060-0350; expires 07/31/2010.

EPA ICR No. 1135.09; NSPS for Magnetic Tape Coating Facilities (Renewal); in 40 CFR part 60, subpart SSS; was approved 07/19/2007; OMB number 2060-0171; expires 07/31/2010.

EPA ICR No. 1659.06; NESHAP for Gasoline Distribution Facilities (Renewal); in 40 CFR part 63, subpart R; was approved 08/07/2007; OMB Number 2060-0325; expires 08/31/2010.

EPA ICR No. 2242.02; Renewable Fuels Standards (RFS) Program (Final Rule); in 40 CFR 80.1150; was approved 08/08/2007; OMB Number 2060-0600; expires 08/31/2010.

EPA ICR No. 1664.06; The National Oil and Hazardous Substances Pollution Contingency Plan (Renewal); in 40 CFR 300.900, subpart J; was approved 08/09/2007; expires 08/31/2010.

EPA ICR No. 2060.03; Cooling Water Intake Structures Phase II Exiting Facility (Renewal); was approved 8/13/2007; OMB Number 2040-0257; expires 08/31/2010.

Comment Filed

EPA ICR No. 1800.04; Information Requirements for Locomotives and Locomotive Engines (Proposed Rule); OMB Number 2060-0392; OMB filed comment on 07/31/2007.

EPA ICR No. 1361.11; Expanding the Comparable Fuels Exclusion under RCRA (Proposed Rule); OMB Number 2050-0073; OMB filed a comment on 07/30/2007.

Dated: August 14, 2007.
Sara Hisel-McCoy,
Acting Director, Collection Strategies Division.

[FR Doc. E7-16440 Filed 8-20-07; 8:45 am]

BILLING CODE 6560-50-P